NUCLEAR REGULATORY COMMISSION

Advisory Committee on Nuclear Waste and Materials; Meeting Notice

The Advisory Committee on Nuclear Waste and Materials (ACNW&M) will hold its 180th meeting on June 19-21, 2007, Room T-2B3, 11545 Rockville Pike, Rockville, Maryland.

Tuesday, June 19, 2007

10 a.m.-10:05 a.m.: Opening Remarks by the ACNW&M Chairman (Open)—The Chairman will make opening remarks regarding the conduct of today's sessions.

10:05 a.m.-11:30 a.m.: U.S. Department of Energy Briefing on the Transportation, Aging, and Disposal (TAD) Canister and the Total System Model (TSM) in Support of the Yucca Mountain Repository Effort (Open)—A representative from the Department of Energy (DOE), Office of Civilian Radioactive Waste Management, will brief the Committee on the status of the Transportation, Aging, and Disposal (TAD) canister that will be used to transport and dispose of spent nuclear fuel and other high-level radioactive waste to the proposed Yucca Mountain Repository. The speaker will also discuss DOE's Total System Model (TSM) in support of the transportation effort.

11:30 a.m.-12 p.m.: Election of ACNW&M Officers for the period of July 1, 2007 to June 30, 2008 (Open)—The Committee will elect the Chairman and Vice Chairman for the ACNW&M for the next 1-year period.

Working Group Meeting on Implementation of 10 CFR 20.1406 (Open)

1 p.m.-1:05 p.m.: Opening Remarks and Introductions (Open)—ACNW&M Member Dr. James Clarke will provide an overview of the Working Group Meeting, including the meeting purpose and scope, and introduce invited speakers.

1:05 p.m.-4 p.m.: Scheduled Presentations

• Representatives from the designers of the Westinghouse AP1000 and the General Electric ESBWR power reactors will present information on the implementation of 10 CFR 20.1406, “Minimization of Contamination,” in the designs of these reactors.

• A representative from the NRC's Office of Nuclear Regulatory Research will brief the Committee on draft Regulatory Guide 4012.

• A representative of the Nuclear Energy Institute will present information on industry contributions to the draft Regulatory Guide and implementation of 10 CFR 20.1406.

There may be a 15 minute break at some point during this activity.

4 p.m.-5 p.m.: Discussion and Wrap Up (Open)—Committee Member Clarke will lead a discussion of the ACNW&M Members and the invited speakers. Dr. Clarke will provide a summary of the Working Group Meeting, including a discussion of a possible letter report to the Commission.

Wednesday, June 20, 2007

8:30 a.m.-8:35 a.m.: Opening Remarks by the ACNW&M Chairman (Open)—The Chairman will make opening remarks regarding the conduct of today's sessions.

8:35 a.m.-9:30 a.m.: NRC Office of Public Affairs' Perspectives on Radiation Risk Communication (Open)—NRC staff representative from the Office of Public Affairs (OPA) will brief the Committee on the NRC's efforts to inform the public about the health effects from low dose radiation exposure. The discussion is also expected to address the public perceptions about radiation exposures.

9:30 a.m.-10 a.m.: A Basic Primer on High-Burnup Spent Nuclear Fuel and Its Cladding (Open)—ACNW&M staff will provide the Committee with a lecture on spent nuclear fuels (SNFs), the effects from high-burnup exposure, and how storage and transportation of SNF can be affected by burnup-affected characteristics. Some of the topics to be covered are cladding types, hydriding, and oxidation.

10:15 a.m.-11:45 a.m.: ACNW&M Staff Attendance to Recent Technical Meetings (Open)—ACNW&M staff will report to the Committee on their attendance to recent technical meetings such as: the NEI Dry Cask Storage Forum, the National Mining Association (NMA)/NRC Uranium Recovery Workshop, the Devil's Hole Workshop, and the DOE/NRC Technical Exchange Meeting on Preclosure Facilities Layout and Operations.

1 p.m.-4:30 p.m.: Discussion of ACNW&M Letter Reports (Open)—The Committee will discuss potential and proposed ACNW&M letter reports.

4:30 p.m.-5:30 p.m.: Miscellaneous (Open)—The Committee will discuss matters related to the conduct of ACNW&M activities and specific issues that were not completed during previous meetings, as time and availability of information permit. Discussions may include content of future letters and scope of future Committee Meetings.

Thursday, June 21, 2007

8:30 a.m.-5 p.m.: Miscellaneous (Open)—The Committee will discuss matters related to the conduct of ACNW&M activities and specific issues that were not completed during previous meetings. Discussions may include content of future letters and scope of future Committee Meetings.

Procedures for the conduct of and participation in ACNW&M meetings were published in the Federal Register on October 12, 2006 (71 FR 60196). In accordance with those procedures, oral or written views may be presented by members of the public. Electronic recordings will be permitted only during those portions of the meeting that are open to the public. Persons desiring to make oral statements should notify Dr. Antonio F. Dias (Telephone 301-415-6805), between 8:15 a.m. and 5 p.m. ET, as far in advance as practicable so that appropriate arrangements can be made to schedule the necessary time during the meeting for such statements. Use of still, motion picture, and television cameras during the meeting may be limited to selected portions of the meeting as determined by the ACNW&M Chairman. Information regarding the time to be set aside for taking pictures may be obtained by contacting the ACNW&M office prior to the meeting. In view of the possibility that the schedule for ACNW&M meetings may be adjusted by the Chairman as necessary to facilitate the conduct of the meeting, persons planning to attend should notify Dr. Dias as to their particular needs.

Further information regarding topics to be discussed, whether the meeting has been canceled or rescheduled, as well as the Chairman's ruling on requests for the opportunity to present oral statements and the time allotted therefor can be obtained by contacting Dr. Dias.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video teleconferencing service is available for observing open sessions of ACNW&M meetings. Those wishing to use this service for observing ACNW&M meetings should contact Mr. Theron Brown, ACRS/ACNW&M Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: May 31, 2007.
Andrew L. Bates,
Advisory Committee Management Officer.

[FR Doc. E7-10858 Filed 6-5-07; 8:45 am]

BILLING CODE 7590-01-P